INTERNATIONAL TRADE COMMISSION

[Inv. No. 337-TA-439]

In the Matter of Certain HSP Modems, Software and Hardware Components Thereof,and Products Containing Same; Notice of Commission Decision Not To Review an Initial Determination Terminating the Investigation as to One Patent

AGENCY: U.S. International Trade Commission.

ACTION: Notice.

SUMMARY: Notice is hereby given that the U.S. International Trade Commission has determined not to review the presiding administrative law judge's (“ALJ's”) initial determination (“ID”) terminating U.S. Letters Patent 5,940,459 from the above-captioned investigation, based on the withdrawal of allegations of infringement relating to that patent.

FOR FURTHER INFORMATION CONTACT: Timothy P. Monaghan, Esq., Office of the General Counsel, U.S. International Trade Commission, 500 E Street, SW., Washington, DC 20436, telephone 202-205-3152. General information concerning the Commission may also be obtained by accessing its Internet server (http://www.usitc.gov). Hearing-impaired persons are advised that information on this matter can be obtained by contacting the Commission's TDD terminal on 202-205-1810. The public record for this investigation may be viewed on the Commission's electronic docket (EDIS-ON-LINE) at http://dockets.usitc.gov/eol/public.

SUPPLEMENTARY INFORMATION: The Commission instituted this investigation on October 11, 2000, based on a complaint filed by PCTEL, Inc. (“PCTEL”) of Milpitas, California. The complaint named Smart Link Ltd. of Netanya, Israel and Smart Link Technologies, Inc. of Watertown, Massachusetts (collectively “Smart Link”) and ESS Technology, Inc. (“ESS”) of Fremont, California as respondents. The complaint alleged that Smart Link and ESS had violated section 337 of the Tariff Act of 1930 by importing into the United States, selling for importation, and/or selling within the United States after importation certain HSP modems, software and hardware components thereof, and products containing the same by reason of infringement of claims 1-2 of U.S. Letters Patent 5,787,305, claims 1-4, 7-8, and 11-15 of U.S. Letters Patent 5,931,950, claims 1, 2, 10, and 15-17 of U.S. Letters Patent 4,841,561, and claims 1, 6-7, 10-12, and 15-19 of U.S. Letters Patent 5,940,459 (“the ‘459 patent”).

On February 5, 2001, the complainant PCTEL filed a motion for partial termination of this investigation as to its claims of infringement of the ‘459 patent. On February 15, 2001, the Commission investigative attorney filed a response supporting the motion. On February 16, 2001, the ALJ issued an ID (Order No. 16) granting the motion. No petitions for review of the ID were filed.

The authority for the Commission's action is contained in section 337 of the Tariff Act of 1930, as amended (19 U.S.C. 1337), and in section 210.42 of the Commission's Rules of Practice and Procedure (19 CFR 210.42).

Copies of the public versions of the subject IDs, and all other nonconfidential documents filed in connection with this investigation, are or will be available for inspection during official business hours (8:45 a.m. to 5:15 p.m.) in the Office of the Secretary, U.S. International Trade Commission, 500 E Street, SW., Washington, DC 20436, telephone 202-205-2000.

By order of the Commission.
Issued: March 7, 2001.
Donna R. Koehnke,
Secretary.

[FR Doc. 01-6338 Filed 3-13-01; 8:45 am]

BILLING CODE 7020-02-P